DEPARTMENT OF COMMERCE

International Trade Administration

[A-570-967]

Aluminum Extrusions From the People's Republic of China: Initiation and Preliminary Results of Expedited Changed Circumstances Review

AGENCY: Enforcement and Compliance, International Trade Administration, Department of Commerce.

SUMMARY: The Department of Commerce (Commerce) is initiating and issuing the preliminary results of a changed circumstances review (CCR) of the antidumping duty (AD) order on aluminum extrusions from the People's Republic of China (China), finding that the cash deposit rate for the 21 exporters/producers who retain a separate rate assigned in the less-than-fair value (LTFV) investigation should be recalculated to reflect the revised countervailing duty (CVD) export subsidy offsets from the amended final CVD determination. We invite interested parties to comment on these preliminary results.

DATES: Applicable July 20, 2018.

FOR FURTHER INFORMATION CONTACT: Mark Flessner or Erin Kearney, AD/CVD Operations, Office VI, Enforcement and Compliance, International Trade Administration, U.S. Department of Commerce, 1401 Constitution Avenue NW, Washington, DC 20230; telephone: (202) 482-6312 or (202) 482-0167, respectively.

SUPPLEMENTARY INFORMATION:

Background

On May 26, 2011, Commerce published AD and CVD orders on aluminum extrusions from China.¹ On October 23, 2015, the United States Court of International Trade (CIT) sustained Commerce's results of redetermination pursuant to court remand, which recalculated the all-others subsidy rate in the CVD investigation of aluminum extrusions from China.² On November 10, 2015, Commerce published an amended final CVD determination, with an effective date of November 2, 2015.³

¹ See Aluminum Extrusions from the People's Republic of China: Antidumping Duty Order, 76 FR 30650 (May 26, 2011) (the Order); and Aluminum Extrusions from the People's Republic of China: Countervailing Duty Order, 76 FR 30653 (May 26, 2011).

² See MacLean-Fogg Co. v. United States, 100 F. Supp. 3d 1349 (CIT August 2015) (MacLean-Fogg).

³ See Aluminum Extrusions from the People's Republic of China: Amended Final Affirmative Countervailing Duty Determination Pursuant to Court Decision, 80 FR 69640 (November 10, 2015) (CVD Amended Final Determination).

In the CVD investigation, the subsidy rate applied to “all other” companies was 374.15 percent,⁴ and the amount of export subsidies included in the all-others rate was 42.16 percent.⁵ Section 772(c)(1)(C) the Act provides that in determining export price (EP) or constructed export price (CEP), Commerce should adjust its calculations by “the amount of any countervailing duty imposed on the subject merchandise . . . to offset an export subsidy.” Therefore, the AD cash deposit rate for companies eligible for a separate rate was calculated as the separate rate dumping margin determined in the LTFV investigation (i.e., 32.79 percent), less the amount of export subsidies included in the all-others CVD rate (i.e., 42.16 percent).⁶ However, as a result of Commerce's amended final CVD determination, the all-others CVD rate was determined to be 7.37 percent,⁷ and the amount of export subsidies included in the all-others rate was determined to be 0.28 percent.⁸

⁴ See Aluminum Extrusions from the People's Republic of China: Final Affirmative Countervailing Duty Determination, 76 FR 18521, 18523 (April 4, 2011).

⁵ See Aluminum Extrusions from the People's Republic of China: Final Determination of Sales at Less Than Fair Value, 76 FR 18524, 18531 (April 4, 2011).

⁶ Id., 76 FR at 18531.

⁷ See CVD Amended Final Determination, 80 FR at 69640.

⁸ See Memorandum, “Preliminary Export Subsidy Offset Calculation Memorandum,” dated concurrently with this notice (Preliminary Calculation Memorandum).

Of the companies that were granted a separate rate in the LTFV investigation, 21 companies have not been subject to an administrative review and, thus, continue to be assigned the separate rate cash deposit rate determined in the LTFV investigation.⁹ These companies are listed below in the “Preliminary Results of Expedited Changed Circumstances Review” section.

⁹ Two additional companies, China Square Industrial Ltd and USA Worldwide Door Components (PINGHU) Co., Ltd., are currently assigned the separate rate established in the LTFV investigation. However, both companies are currently under review in the 2015-2016 administrative review of aluminum extrusions from China, and their dumping margin will be determined in the final results of that review.

Scope of the Order

The merchandise covered by the Order is aluminum extrusions which are shapes and forms, produced by an extrusion process, made from aluminum alloys having metallic elements corresponding to the alloy series designations published by The Aluminum Association commencing with the numbers 1, 3, and 6 (or proprietary equivalents or other certifying body equivalents). Specifically, the subject merchandise made from aluminum alloy with an Aluminum Association series designation commencing with the number 1 contains not less than 99 percent aluminum by weight. The subject merchandise made from aluminum alloy with an Aluminum Association series designation commencing with the number 3 contains manganese as the major alloying element, with manganese accounting for not more than 3.0 percent of total materials by weight. The subject merchandise is made from an aluminum alloy with an Aluminum Association series designation commencing with the number 6 contains magnesium and silicon as the major alloying elements, with magnesium accounting for at least 0.1 percent but not more than 2.0 percent of total materials by weight, and silicon accounting for at least 0.1 percent but not more than 3.0 percent of total materials by weight. The subject aluminum extrusions are properly identified by a four-digit alloy series without either a decimal point or leading letter. Illustrative examples from among the approximately 160 registered alloys that may characterize the subject merchandise are as follows: 1350, 3003, and 6060.

Aluminum extrusions are produced and imported in a wide variety of shapes and forms, including, but not limited to, hollow profiles, other solid profiles, pipes, tubes, bars, and rods. Aluminum extrusions that are drawn subsequent to extrusion (drawn aluminum) are also included in the scope.

Aluminum extrusions are produced and imported with a variety of finishes (both coatings and surface treatments), and types of fabrication. The types of coatings and treatments applied to subject aluminum extrusions include, but are not limited to, extrusions that are mill finished (i.e., without any coating or further finishing), brushed, buffed, polished, anodized (including brightdip anodized), liquid painted, or powder coated. Aluminum extrusions may also be fabricated, i.e., prepared for assembly. Such operations would include, but are not limited to, extrusions that are cut-to-length, machined, drilled, punched, notched, bent, stretched, knurled, swedged, mitered, chamfered, threaded, and spun. The subject merchandise includes aluminum extrusions that are finished (coated, painted, etc.), fabricated, or any combination thereof.

Subject aluminum extrusions may be described at the time of importation as parts for final finished products that are assembled after importation, including, but not limited to, window frames, door frames, solar panels, curtain walls, or furniture. Such parts that otherwise meet the definition of aluminum extrusions are included in the scope. The scope includes the aluminum extrusion components that are attached (e.g., by welding or fasteners) to form subassemblies, i.e., partially assembled merchandise unless imported as part of the finished goods `kit' defined further below. The scope does not include the non-aluminum extrusion components of subassemblies or subject kits.

Subject extrusions may be identified with reference to their end use, such as fence posts, electrical conduits, door thresholds, carpet trim, or heat sinks (that do not meet the finished heat sink exclusionary language below). Such goods are subject merchandise if they otherwise meet the scope definition, regardless of whether they are ready for use at the time of importation.

The following aluminum extrusion products are excluded: Aluminum extrusions made from aluminum alloy with an Aluminum Association series designations commencing with the number 2 and containing in excess of 1.5 percent copper by weight; aluminum extrusions made from aluminum alloy with an Aluminum Association series designation commencing with the number 5 and containing in excess of 1.0 percent magnesium by weight; and aluminum extrusions made from aluminum alloy with an Aluminum Association series designation commencing with the number 7 and containing in excess of 2.0 percent zinc by weight.

The scope also excludes finished merchandise containing aluminum extrusions as parts that are fully and permanently assembled and completed at the time of entry, such as finished windows with glass, doors with glass or vinyl, picture frames with glass pane and backing material, and solar panels. The scope also excludes finished goods containing aluminum extrusions that are entered unassembled in a “finished goods kit.” A finished goods kit is understood to mean a packaged combination of parts that contains, at the time of importation, all of the necessary parts to fully assemble a final finished good and requires no further finishing or fabrication, such as cutting or punching, and is assembled “as is” into a finished product. An imported product will not be considered a “finished goods kit” and therefore excluded from the scope of the Order merely by including fasteners such as screws, bolts, etc. in the packaging with an aluminum extrusion product.

The scope also excludes aluminum alloy sheet or plates produced by other than the extrusion process, such as aluminum products produced by a method of casting. Cast aluminum products are properly identified by four digits with a decimal point between the third and fourth digit. A letter may also precede the four digits. The following Aluminum Association designations are representative of aluminum alloys for casting: 208.0, 295.0, 308.0, 355.0, C355.0, 356.0, A356.0, A357.0, 360.0, 366.0, 380.0, A380.0, 413.0, 443.0, 514.0, 518.1, and 712.0. The scope also excludes pure, unwrought aluminum in any form.

The scope also excludes collapsible tubular containers composed of metallic elements corresponding to alloy code 1080A as designated by the Aluminum Association where the tubular container (excluding the nozzle) meets each of the following dimensional characteristics: (1) Length of 37 millimeters (“mm”) or 62 mm, (2) outer diameter of 11.0 mm or 12.7 mm, and (3) wall thickness not exceeding 0.13 mm.

Also excluded from the scope of this order are finished heat sinks. Finished heat sinks are fabricated heat sinks made from aluminum extrusions the design and production of which are organized around meeting certain specified thermal performance requirements and which have been fully, albeit not necessarily individually, tested to comply with such requirements.

Imports of the subject merchandise are provided for under the following categories of the Harmonized Tariff Schedule of the United States (HTSUS): 6603.90.8100, 7616.99.51, 8479.89.94, 8481.90.9060, 8481.90.9085, 9031.90.9195, 8424.90.9080, 9405.99.4020, 9031.90.90.95, 7616.10.90.90, 7609.00.00, 7610.10.00, 7610.90.00, 7615.10.30, 7615.10.71, 7615.10.91, 7615.19.10, 7615.19.30, 7615.19.50, 7615.19.70, 7615.19.90, 7615.20.00, 7616.99.10, 7616.99.50, 8479.89.98, 8479.90.94, 8513.90.20, 9403.10.00, 9403.20.00, 7604.21.00.00, 7604.29.10.00, 7604.29.30.10, 7604.29.30.50, 7604.29.50.30, 7604.29.50.60, 7608.20.00.30, 7608.20.00.90, 8302.10.30.00, 8302.10.60.30, 8302.10.60.60, 8302.10.60.90, 8302.20.00.00, 8302.30.30.10, 8302.30.30.60, 8302.41.30.00, 8302.41.60.15, 8302.41.60.45, 8302.41.60.50, 8302.41.60.80, 8302.42.30.10, 8302.42.30.15, 8302.42.30.65, 8302.49.60.35, 8302.49.60.45, 8302.49.60.55, 8302.49.60.85, 8302.50.00.00, 8302.60.90.00, 8305.10.00.50, 8306.30.00.00, 8414.59.60.90, 8415.90.80.45, 8418.99.80.05, 8418.99.80.50, 8418.99.80.60, 8419.90.10.00, 8422.90.06.40, 8473.30.20.00, 8473.30.51.00, 8479.90.85.00, 8486.90.00.00, 8487.90.00.80, 8503.00.95.20, 8508.70.00.00, 8515.90.20.00, 8516.90.50.00, 8516.90.80.50, 8517.70.00.00, 8529.90.73.00, 8529.90.97.60, 8536.90.80.85, 8538.10.00.00, 8543.90.88.80, 8708.29.50.60, 8708.80.65.90, 8803.30.00.60, 9013.90.50.00, 9013.90.90.00, 9401.90.50.81, 9403.90.10.40, 9403.90.10.50, 9403.90.10.85, 9403.90.25.40, 9403.90.25.80, 9403.90.40.05, 9403.90.40.10, 9403.90.40.60, 9403.90.50.05, 9403.90.50.10, 9403.90.50.80, 9403.90.60.05, 9403.90.60.10, 9403.90.60.80, 9403.90.70.05, 9403.90.70.10, 9403.90.70.80, 9403.90.80.10, 9403.90.80.15, 9403.90.80.20, 9403.90.80.41, 9403.90.80.51, 9403.90.80.61, 9506.11.40.80, 9506.51.40.00, 9506.51.60.00, 9506.59.40.40, 9506.70.20.90, 9506.91.00.10, 9506.91.00.20, 9506.91.00.30, 9506.99.05.10, 9506.99.05.20, 9506.99.05.30, 9506.99.15.00, 9506.99.20.00, 9506.99.25.80, 9506.99.28.00, 9506.99.55.00, 9506.99.60.80, 9507.30.20.00, 9507.30.40.00, 9507.30.60.00, 9507.90.60.00, and 9603.90.80.50.

The subject merchandise entered as parts of other aluminum products may be classifiable under the following additional Chapter 76 subheadings: 7610.10, 7610.90, 7615.19, 7615.20, and 7616.99, as well as under other HTSUS chapters. In addition, fin evaporator coils may be classifiable under HTSUS numbers: 8418.99.80.50 and 8418.99.80.60. While HTSUS subheadings are provided for convenience and customs purposes, the written description of the scope of this order is dispositive.

Initiation of Changed Circumstances Review

Pursuant to section 751(b) of the Act and 19 CFR 351.216 and 351.221(c)(3), Commerce is initiating a CCR of the antidumping duty order on aluminum extrusions from China. While Commerce was conducting the 2016-2017 administrative review,¹⁰ the Aluminum Extrusions Fair Trade Committee (the petitioner), brought to Commerce's attention that, despite the issuance of the CVD Amended Final Determination, which modified the all-others CVD rate, Commerce never revised the export subsidy offset applied to the AD cash deposit rates determined for the 21 exporters/producers who retain a separate rate assigned in the LTFV investigation. In light of the issuance of the CVD Amended Final Determination, as well as the information raised by the petitioner in the 2016-2017 administrative review, we have determined that there is sufficient information of changed circumstances to warrant self-initiation of a review to consider revision of the AD cash deposit rates applied to those exporters/producers who continue to be assigned a separate rate from the LTFV investigation.

¹⁰ See Aluminum Extrusions from the People's Republic of China: Preliminary Results of Antidumping Duty Administrative Review and Rescission of Review in Part; 2016-2017, 83 FR 5604 (February 8, 2018).

Section 351.221(c)(3)(ii) of Commerce's regulations permits Commerce to combine the notice of initiation of a changed circumstances review and the notice of preliminary results if Commerce concludes that expedited action is warranted. In this instance, because we believe we have all the information necessary to make a preliminary finding, and that modification of the export subsidy offset was permitted on or after November 2, 2015 (the effective date of the CVD Amended Final Determination), we find that expedited action is warranted, and have combined the notice of initiation and the notice of preliminary results.

Preliminary Results of Expedited Changed Circumstances Review

When it concludes that expedited action is warranted, Commerce may publish the notice of initiation and preliminary results of a CCR in a single notice.¹¹ As detailed below, expedited action is warranted in this instance to bring Commerce's application of the export subsidy offset in accordance with the revised CVD rate issued in the CVD Amended Final Determination. Accordingly, we are combining the notice of initiation and the notice of preliminary results, in accordance with 19 CFR 351.221(c)(3)(ii).

¹¹ See 19 CFR 351.221(c)(3)(ii).

Based on Commerce's analysis of the information published in the CVD Amended Final Determination, in accordance with 19 CFR 351.216, we preliminarily determine that changed circumstances exist, and that the appropriate cash deposit rate for the 21 exporters/producers who retain a separate rate assigned in the LTFV investigation should be recalculated to include the revised CVD export subsidy offsets from the CVD Amended Final Determination.¹²

¹² See Preliminary Calculation Memorandum.

The preliminary cash deposit rates are listed below:

Exporter | Producer | Weighted- average dumping margin (percent) | Cash deposit rate (percent)
Changshu Changsheng Aluminium Products Co., Ltd | Changshu Changsheng Aluminium Products Co., Ltd | 32.79 | 32.51
Cosco (J.M.) Aluminium Co., Ltd | Cosco (J.M.) Aluminium Co., Ltd/Jiangmen Qunxing Hardware Diecasting Co., Ltd | 32.79 | 32.51
First Union Property Limited | Top-Wok Metal Co., Ltd | 32.79 | 32.51
Foshan Jinlan Non-Ferrous Metal Product Co., Ltd | Foshan Jinlan Aluminium Co., Ltd | 32.79 | 32.51
Foshan Sanshui Fenglu Aluminium Co., Ltd | Foshan Sanshui Fenglu Aluminium CO., Ltd | 32.79 | 32.51
Guangdong Hao Mei Aluminium Co., Ltd | Guangdong Hao Mei Aluminium Co., Ltd | 32.79 | 32.51
Guangdong Weiye Aluminum Factory Co., Ltd | Guangdong Weiye Aluminum Factory Co., Ltd | 32.79 | 32.51
Guangdong Xingfa Aluminium Co., Ltd | Guangdong Xingfa Aluminium Co., Ltd | 32.79 | 32.51
Hanwood Enterprises Limited | Pingguo Aluminium Company Limited | 32.79 | 32.51
Honsense Development Company | Kanal Precision Aluminium Product Co., Ltd | 32.79 | 32.51
Innovative Aluminium (Hong Kong) Limited | Taishan Golden Gain Aluminum Products Limited | 32.79 | 32.51
Jiangyin Trust International Inc | Jiangyin Xinhong Doors and Windows Co., Ltd | 32.79 | 32.51
Longkou Donghai Trade Co., Ltd | Shandong Nanshan Aluminum Co., Ltd | 32.79 | 32.51
Ningbo Yili Import and Export Co., Ltd | Zhejiang Anji Xinxiang Aluminum Co., Ltd | 32.79 | 32.51
North China Aluminum Co., Ltd | North China Aluminum Co., Ltd | 32.79 | 32.51
PanAsia Aluminium (China) Limited | PanAsia Aluminium (China) Limited | 32.79 | 32.51
Pingguo Asia Aluminum Co., Ltd | Pingguo Asia Aluminum Co., Ltd | 32.79 | 32.51
Popular Plastics Co., Ltd | Hoi Tat Plastic Mould & Metal Factory | 32.79 | 32.51
Tai-Ao Aluminium (Taishan) Co., Ltd | Tai-Ao Aluminium (Taishan) Co., Ltd | 32.79 | 32.51
Tianjin Ruixin Electric Heat Transmission Technology, Ltd | Tianjin Ruixin Electric Heat Transmission Technology, Ltd | 32.79 | 32.51
Zhejiang Yongkang Listar Aluminium Industry Co., Ltd | Zhejiang Yongkang Listar Aluminium Industry Co., Ltd | 32.79 | 32.51

Public Comment

Case briefs from interested parties may be submitted not later than 30 days after the date of publication of this notice.¹³ Rebuttal briefs, limited to the issues raised in the case briefs, may be filed no later than 5 days after the submission of case briefs.¹⁴ Parties who submit case or rebuttal briefs in this CCR are requested to submit with each argument: (1) A statement of the issue; and (2) a brief summary of the argument with an electronic version included.¹⁵

¹³ See 19 CFR 321.309(c)(1)(ii).

¹⁴ See 19 CFR 351.309(d)(1).

¹⁵ See 19 CFR 351.309(c)(2), and (d)(2).

All submissions, with limited exceptions, must be filed electronically using Enforcement and Compliance's Antidumping and Countervailing Duty Centralized Electronic Service System (ACCESS).¹⁶ ACCESS is available to registered users at http://access.trade.gov, and it is available to all parties in the Central Records Unit, Room B8024 of the main Department of Commerce building. An electronically filed document must be received successfully in its entirety by Commerce's electronic records system, ACCESS, by 5 p.m. Eastern Time (ET) on the deadline.¹⁷ Documents excepted from the electronic submission requirements must be filed manually (i.e., in paper form) with the APO/Dockets Unit in Room 18022 and stamped with the date and time of receipt by 5 p.m. ET on the due date.¹⁸

¹⁶ See 19 CFR 351.303(f).

¹⁷ See 19 CFR 351.303(b).

¹⁸ See Antidumping and Countervailing Duty Proceedings: Electronic Filing Procedures: Administrative Protective Order Procedures, 76 FR 39263 (July 6, 2011).

Any interested party may request a hearing within 30 days of publication of this notice. Any hearing, if requested, will be held no later than 37 days after the date of publication of this notice in the Federal Register, or the first business day thereafter. Persons interested in attending the hearing, if one is requested, should contact Commerce for the date and time of the hearing.

Notifications to Interested Parties

Unless extended, consistent with 19 CFR 351.216(e), we intend to issue the final results of this CCR no later than 270 days after the date on which this review is initiated, or within 45 days after the date on which this review is initiated if all parties agree to our preliminary finding. The final results will include Commerce's analysis of issues raised in any written comments.

We are issuing and publishing this initiation and preliminary results notice in accordance with sections 751(b)(1) and 777(i)(1) and (2) of the Act and sections 351.216 and 351.221(c)(3) of Commerce's regulations.

Dated: July 16, 2018.
Gary Taverman,
Deputy Assistant Secretary for Antidumping and Countervailing Duty Operations, performing the non-exclusive functions and duties of the Assistant Secretary for Enforcement and Compliance.

[FR Doc. 2018-15573 Filed 7-19-18; 8:45 am]

BILLING CODE 3510-DS-P